DEPARTMENT OF COMMERCE

International Trade Adminstration

[C-570-019]

Boltless Steel Shelving Units Prepackaged for Sale From the People's Republic of China: Amended Final Affirmative Countervailing Duty Determination and Countervailing Duty Order

AGENCY: Enforcement and Compliance, International Trade Administration, Department of Commerce.

SUMMARY: Based on affirmative final determinations by the Department of Commerce (the “Department”) and the International Trade Commission (“ITC”), the Department is issuing a countervailing duty (“CVD”) order on boltless steel shelving units prepackaged for sale (“boltless steel shelving”) from the People's Republic of China (the “PRC”). Also, as explained in this notice, we are amending our Final Determination ¹ to correct a ministerial error with respect to the CVD rate applied to companies that did not respond to the Department's quantity and value (“Q&V”) questionnaire.

¹ See Boltless Steel Shelving Units Prepackaged for Sale from the People's Republic of China: Final Affirmative Countervailing Duty Determination, 80 FR 51775 (August 26, 2015) (“Final Determination”) and accompanying Issues and Decision Memorandum (“I&D Memo”).

DATES: Effective date: October 21, 2015.

FOR FURTHER INFORMATION CONTACT: Paul Walker, AD/CVD Operations, Office V, Enforcement and Compliance, International Trade Administration, U.S. Department of Commerce, 14th Street and Constitution Avenue NW., Washington, DC 20230; telephone: 202.482.2593.

SUPPLEMENTARY INFORMATION:

On August 26, 2015, the Department published the Final Determination. The period of investigation is January 1, 2013 through December 31, 2013. On August 24, 2015, Edsal Manufacturing Company, Inc. (“Petitioner”) timely filed a ministerial error allegation.² On August 31, 2015, the Government of China (“GOC”) filed rebuttal comments to Petitioner's Comments.³

² See Petitioner's August 24, 2015 submission.

³ See the GOC's August 31, 2015 submission.

On October 7, 2015, the ITC notified the Department of its final determination pursuant to section 705(d) of the Act that an industry in the United States is materially injured within the meaning of section 705(b)(1)(A)(i) of the Act by reason of subsidized imports of subject merchandise from the PRC.⁴

⁴ See Letter to Christian Marsh, Deputy Assistant Secretary of Commerce for Enforcement and Compliance, from Meredith Broadbent, Chairman of the U.S. International Trade Commission, regarding boltless steel shelving units prepackaged for sale from the People's Republic of China (October 7, 2015). See also Boltless Steel Shelving Units Prepackaged for Sale from China, Investigation Nos. 701-TA-523 AND 731-TA-1259 (Final), 80 FR 61841 (October 14, 2015).

Scope of the Order

The scope of this investigation covers boltless steel shelving, with or without decks. The term “prepackaged for sale” means that, at a minimum, the steel vertical supports (i.e., uprights and posts) and steel horizontal supports (i.e., beams, braces) necessary to assemble a completed shelving unit (with or without decks) are packaged together for ultimate purchase by the end-user. The scope also includes add-on kits. Add-on kits include, but are not limited to, kits that allow the end-user to add an extension shelving unit onto an existing boltless steel shelving unit such that the extension and the original unit will share common frame elements (e.g., two posts). The term “boltless” refers to steel shelving in which the vertical and horizontal supports forming the frame are assembled primarily without the use of nuts and bolts, or screws. The vertical and horizontal support members for boltless steel shelving are assembled by methods such as, but not limited to, fitting a rivet, punched or cut tab, or other similar connector on one support into a hole, slot or similar receptacle on another support. The supports lock together to form the frame for the shelving unit, and provide the structural integrity of the shelving unit separate from the inclusion of any decking. The incidental use of nuts and bolts, or screws to add accessories, wall anchors, tie-bars or shelf supports does not remove the product from scope. Boltless steel shelving units may also come packaged as partially assembled, such as when two upright supports are welded together with front-to-back supports, or are otherwise connected, to form an end unit for the frame. The boltless steel shelving covered by this investigation may be commonly described as rivet shelving, welded frame shelving, slot and tab shelving, and punched rivet (quasi-rivet) shelving as well as by other trade names. The term “deck” refers to the shelf that sits on or fits into the horizontal supports (beams or braces) to provide the horizontal storage surface of the shelving unit.

The scope includes all boltless steel shelving meeting the description above, regardless of (1) vertical support or post type (including but not limited to open post, closed post and tubing); (2) horizontal support or beam/brace profile (including but not limited to Z-beam, C-beam, L-beam, step beam and cargo rack); (3) number of supports; (4) surface coating (including but not limited to paint, epoxy, powder coating, zinc and other metallic coating); (5) number of levels; (6) weight capacity; (7) shape (including but not limited to rectangular, square, and corner units); (8) decking material (including but not limited to wire decking, particle board, laminated board or no deck at all); or (9) the boltless method by which vertical and horizontal supports connect (including but not limited to keyhole and rivet, slot and tab, welded frame, punched rivet and clip).

Specifically excluded from the scope are:

• Wall-mounted shelving, defined as shelving that is hung on the wall and does not stand on, or transfer load to, the floor; ⁵

⁵ The addition of a wall bracket or other device to attach otherwise freestanding subject merchandise to a wall does not meet the terms of this exclusion.

• wire shelving units, which consist of shelves made from wire that incorporates both a wire deck and wire horizontal supports (taking the place of the horizontal beams and braces) into a single piece with tubular collars that slide over the posts and onto plastic sleeves snapped on the posts to create the finished shelving unit;

• bulk-packed parts or components of boltless steel shelving units; and

• made-to-order shelving systems.

Subject boltless steel shelving enters the United States through Harmonized Tariff Schedule of the United States (“HTSUS”) statistical subheadings 9403.20.0018, 9403.20.0020, 9403.20.0025, and 9403.20.0026, but may also enter through HTSUS 9403.10.0040. While HTSUS subheadings are provided for convenience and Customs purposes, the written description of the scope of this investigation is dispositive.

Ministerial Error Allegation and Amendment to the Final Affirmative CVD Determination

A ministerial error is defined as an error in addition, subtraction, or other arithmetic function, clerical error resulting from inaccurate copying, duplication, or the like, and any other similar type of unintentional error which the Secretary considers ministerial.⁶ Pursuant to 19 CFR 351.224(e) and (f), the Department is amending the Final Determination to reflect the correction of a ministerial error it made in the final margin assigned companies which did not respond to the Q&V questionnaire. As a result, we have revised the margin assigned to these companies.⁷

⁶ See section 705(e) of the Act.

⁷ See the “Suspension of Liquidation” section below.

On August 24, 2015, Petitioner submitted a ministerial error allegation claiming that the Department made a ministerial error by assigning a rate of 80.45 percent to the companies which did not respond to the Q&V questionnaire, when it should have assigned the rate of 80.39 percent to these companies, as noted in the I&D Memo. The GOC agrees with Petitioner's allegation.

The Department reviewed the record and agrees that Petitioner's allegation constitutes a ministerial error within the meaning of 19 CFR 351.224(f). Pursuant to 19 CFR 351.224(f), the Department made an unintentional error by listing the incorrect rate assigned to companies which did not respond to the Q&V questionnaire, which constitutes a ministerial error.⁸ We have corrected this error in this notice.

⁸ See Memorandum to Christian Marsh, Deputy Assistant Secretary for Antidumping and Countervailing Duty Operations, from Susan Pulongbarit, Senior Analyst, Office V, “Countervailing Duty Investigation of Boltless Steel Shelving Units Prepackaged for Sale from the People's Republic of China: Analysis of Ministerial Error Allegation,” dated concurrently with this notice.

Countervailing Duty Order

In accordance with sections 705(b)(1)(A)(i) and 705(d) of the Act, the ITC has notified the Department of its final determination that the industry in the United States producing boltless steel shelves is materially injured by reason of subsidized imports of boltless steel shelves from the PRC. Therefore, in accordance with section 705(c)(2) and 706(a) of the Act, we are publishing this countervailing duty order.

As a result of the ITC's final determination, in accordance with section 706(a) of the Act, the Department will direct CBP to assess, upon further instruction by the Department, countervailing duties on unliquidated entries of boltless steel shelving from the PRC entered, or withdrawn from warehouse, for consumption on or after December 1, 2014, the date of publication of the Preliminary Determination in the Federal Register,⁹ and before May 30, 2015, the date on which the Department instructed CBP to discontinue the suspension of liquidation, in accordance with section 703(d) of the Act. Section 703(d) of the Act states that the suspension of liquidation pursuant to a preliminary determination may not remain in effect for more than four months. Entries of boltless steel shelving from the PRC made on or after May 30, 2015, and prior to the date of publication of the ITC's final determination in the Federal Register, are not liable for the assessment of countervailing duties, due to the Department's discontinuation, effective May 30, 2015, of the suspension of liquidation.

⁹ See Countervailing Duty Investigation of Boltless Steel Shelving Units Prepackaged for Sale from the People's Republic of China: Preliminary Determination and Alignment of Final Determination with Final Antidumping Duty Determination, 80 FR 5089 (January 30, 2015) (“Preliminary Determination”).

Suspension of Liquidation

In accordance with section 706 of the Act, the Department will direct CBP to reinstitute suspension of liquidation, effective on the date of publication of the ITC's notice of final determination in the Federal Register, and to assess, upon further instruction by the Department pursuant to section 706(a)(1) of the Act, countervailing duties for each entry of the subject merchandise in an amount based on the net countervailable subsidy rates for the subject merchandise. The Department will also direct CBP to require a cash deposit for each entry of subject merchandise in an amount equal to the net countervailable subsidy rates listed below. The all-others rate applies to all producers and exporters of subject merchandise not specifically listed.

Company | Subsidy rate (Percent)
Ningbo ETDZ Huixing Trade Co., Ltd. | 12.40
Nanjing Topsun Racking Manufacturing Co., Ltd. | 15.05
All Others | 13.73
Dalian Huameilong Metal Products Co., Ltd.* | 80.39
Dongguan Yuan Er Sheng Machinery Source Hardware Co., Ltd.* | 80.39
Dong Rong Metal Products Co., Ltd.* | 80.39
Global Storage Equipment Manufacturer Limited * | 80.39
Intradin (Shanghai) Import & Export Co., Ltd.* | 80.39
Jinhua Development District Hongfa Tool, Ltd.* | 80.39
Kunshan Jisheng Metal & Plastic Co., Ltd.* | 80.39
Nanjing Huade Warehousing Equipment Manufacturing Co. Ltd.* | 80.39
Nanjing Whitney Metal Products Co., Ltd.* | 80.39
Nanjing Yodoly Logistics Equipments Manufacturing Co., Ltd.* | 80.39
Ningbo Decko Metal Products Trade Co., Ltd.* | 80.39
Ningbo Haifa Metal Works Co., Ltd.* | 80.39
Ningbo HaiFa Office Equipment Co., Ltd.* | 80.39
Ningbo TLT Metal Products Co., Ltd.* | 80.39
* Non-cooperative company to which an adverse facts available rate is being applied. See “Use of Facts Otherwise Available and Adverse Inferences” section in the I&D Memo.

Notifications to Interested Parties

This notice constitutes the countervailing duty order with respect to boltless steel shelving from the PRC, pursuant to section 706(a) of the Act. Interested parties may contact the Department's Central Records Unit, Room B8024 of the main Commerce Building, for copies of an updated list of countervailing duty orders currently in effect.

This amended final determination is issued and published in accordance with section 705(e) of the Act and 19 CFR 351.224(e) and (f). This order is issued and published in accordance with section 706(a) of the Act and 19 CFR 351.211(b).

Dated: October 15, 2015.
Paul Piquado,
Assistant Secretary for Enforcement and Compliance.

[FR Doc. 2015-26764 Filed 10-20-15; 8:45 am]

BILLING CODE 3510-DS-P